DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration.

Title: Domestic Client Life-cycle Multi-Purpose Forms.

OMB Control Number: 0625-0143.

Form Number(s): ITA-4096P.

Type of Request: Regular submission (revision of a currently approved information collection).

Burden Hours: 14,234.

Number of Respondents: 47,318.

Average Hours per Response: 5-30 minutes.

Annual Cost to the Public: $60,000.

Needs and Uses: The Commercial Service (CS) offers their clients DOC programs, market research, and services to enable the client to begin exporting or to expand existing exporting efforts. Specific information is required in order to determine the client's business objectives and needs. This information collection is designed to elicit such data so that appropriate services can be proposed and conducted to most effectively meet the client's exporting goals. The CS has made efforts to provide more customized services to clients thereby requesting approval to use a service order form for customized services as well as for standardized services such as the International Company Profile, International Partner Search and Gold Key Service. The information collected is used internally and is not disseminated to the public.

These forms will also reduce client burden through forms' flexibility and technology. The CS also seeks increased forms flexibility to ensure that CS asks and captures only the specific information needed for a particular service/event, thereby continuing to reduce client burdens as CS utilizes pre-populated information for clients who have previously registered with CS. As a client request specific CS services, a set of questions will be presented to determine how CS will proceed to give the client the best export outcome.

This revision to produce a customized for each CS client, and will cover all aspects of a client's life-cycle with CS, involves merging with other information collections: OMB Control Nos: 0625-0065, 0625-0130, 0625-0151, 0625-0215, 0625-0220, 0625-0228, 0625-0237, and 0625-0238. These collections include all client intake, events/activities and export success forms. The set of questions used to generate the customized forms have been approved under the aforementioned information collections. Upon OMB approval, these information collections will be discontinued.

Affected Public: Business or other for-profit organizations.

Frequency: On occasion.

Respondent's Obligation: Voluntary.

OMB Desk Officer: Wendy Liberante, (202) 395-3647.

Copies of the above information collection proposal can be obtained by calling or writing Jennifer Jessup, Departmental Paperwork Clearance Officer, (202) 482-0336, Department of Commerce, Room 6616, 14th and Constitution Avenue NW., Washington, DC 20230 (or via the Internet at JJessup@doc.gov.

Written comments and recommendations for the proposed information collection should be sent within 30 days of publication of this notice to Wendy Liberante, OMB Desk Officer, Fax number (202) 395-5167 or via the Internet at Wendy_L._Liberante@omb.eop.gov.

Dated: September 21, 2012.
Gwellnar Banks,
Management Analyst, Office of the Chief Information Officer.

[FR Doc. 2012-23761 Filed 9-26-12; 8:45 am]

BILLING CODE 3510-FP-P